DEPARTMENT OF THE TREASURY

Privacy Act of 1974; System of Records

AGENCY: Department of the Treasury.

ACTION: Notice of a Modified System of Records.

SUMMARY: In accordance with the requirements of the Privacy Act of 1974, the Department of the Treasury (“Treasury” or the “Department”) proposes to modify a current Treasury system of records titled, “Treasury .007—Personnel Security System—System of Records.” This system supports the Department in conducting end-to-end personnel security, fitness, suitability and credentialing processes. This system of records contains records related to employee and contractor vetting as well as investigative, administrative, adjudicative, and/or determination information for decisions concerning whether an individual is suitable or fit for Government employment or eligible to access classified national security information. This action is necessary to meet the requirements of the Privacy Act to publish in the Federal Register notice of the existence and character of system of records maintained by the agency (5 U.S.C. 552a(e)(4)).

DATES: Submit comments on or before June 21, 2019. The new routine uses will be applicable on June 21, 2019 unless Treasury receives comments and determines that changes to the system of records notice are necessary.

ADDRESSES: Comments may be submitted to the Federal eRulemaking Portal electronically at http://www.regulations.gov. Comments can also be sent to the Deputy Assistant Secretary for Privacy, Transparency, and Records, Department of the Treasury, 1500 Pennsylvania Avenue NW, Washington, DC 20220, Attention: Revisions to Privacy Act Systems of Records. All comments received, including attachments and other supporting documents, are part of the public record and subject to public disclosure. All comments received will be posted without change to www.regulations.gov, including any personal information provided. You should submit only information that you wish to make publicly available.

FOR FURTHER INFORMATION CONTACT: For general questions and for privacy issues please contact: Deputy Assistant Secretary for Privacy, Transparency, and Records (202-622-5710), Department of the Treasury, 1500 Pennsylvania Avenue NW, Washington, DC 20220.

SUPPLEMENTARY INFORMATION: In accordance with the Privacy Act of 1974, Treasury proposes to modify a current Treasury system of records titled, “Treasury .007—Personnel Security System.”

The Department of the Treasury is an early adopter of a Department of Defense (DoD)-provided electronic adjudicative case management shared service through DoD's Defense Information System for Security (“DISS”) (system of records notice (SORN): “DMDC 24 DoD—Defense Information System for Security (DISS)”). DISS maintains information on security clearance access, personnel security eligibility, suitability for Government employment, fitness to perform work for or on behalf of the U.S. Government as a contractor, and eligibility for logical and physical access to Treasury controlled facilities and information systems. It also provides an all-inclusive medium to document personnel security adjudicative actions within the subscribing agency, allowing users to provide investigation and adjudication updates to security managers and other security officials. All users of DISS must be appropriately screened, investigated, and granted access based on the user's specific functions, security eligibility, and access level. Treasury maintenance of its records—currently outlined in Treasury .007—within DISS will be used to ensure Treasury is upholding the highest standards of integrity, loyalty, conduct, and security among its employees and contract personnel. It will also help streamline the vetting process by utilizing a single system for all phases of vetting operations to include adjudication, continuous evaluation/continuous vetting, and case management, while maintaining compliance with all applicable legal, regulatory and policy authorities.

To allow Treasury's participation and continued involvement in DISS, Treasury is implementing the changes to the SORN listed below:

(1) To add the following categories of records maintained in the system: “to include names and addresses of neighbors and references,” “to include names of supervisors and colleagues,” “publicly available social media information,” “position sensitivity; status of current adjudicative action; status of security clearance eligibility and/or access, suitability, fitness, or Homeland Security Presidential Directive-12 (HSPD-12) Personal Identity Verification (PIV) determinations; and investigative records related to initial vetting, reinvestigation, continuous evaluation, and/or continuous vetting.” To update the categories of records to state that “[t]his system maintains information collected as part of the investigative vetting process. This information may include the individual's personally identifiable information; residential, educational, employment, and mental health history; financial details, and criminal and disciplinary histories; to include:”;

(2) To update existing applicable authorities for maintenance of the system;

(3) To clarify the purpose(s) of records stored in the system, by modifying the clause “investigatory information,” to the following: “investigative and related administrative, adjudicative, and other information necessary”;

(4) To add routine uses to share information (a) with other federal agencies or federal entities as required by the Office of Management and Budget (OMB) Memorandum 17-12, “Preparing for and Responding to a Breach of Personally Identifiable Information,” dated January 3, 2017, to assist Treasury in responding to a suspected or confirmed breach or prevent, minimize, or remedy the risk of harm to the requesters, Treasury, the Federal Government, or national security, and (b) with the Department of Defense, other Federal agency or other appropriate entity to authorize Treasury's participation in DISS, which allows Treasury to transfer the records covered by Treasury .007 to DISS for storage and maintenance only; though records will be maintained in a DoD-managed system, only Treasury-affiliated users will have access to these records.

(5) To update the storage of records in the system;

(6) To add social security number (SSN), date of birth, place of birth, Investigative Service Provider's investigation number, DISS adjudicative case identification number or some combination thereof as sources for retrieval of records;

(7) To update the agency's safeguards;

(8) To clarify that records may be sourced not only from the individual, but from authorized investigative, employment, and security entities as well;

(9) To update the policies and practices for retention and disposal of records; and

(10) Other changes throughout the document are editorial in nature and consist primarily of changes to clarify language and processes.

This modified system will be included in Treasury's inventory of record systems. Below is the description of the Department of the Treasury, Treasury .007—Personnel Security System.

Treasury has provided a report of this system of records to the Committee on Oversight and Government Reform of the House of Representatives, the Committee on Homeland Security and Governmental Affairs of the Senate, and OMB, pursuant to 5 U.S.C. 552a(r) and OMB Circular A-108, “Federal Agency Responsibilities for Review, Reporting, and Publication under the Privacy Act,” dated December 23, 2016.

Ryan Law,
Deputy Assistant Secretary for Privacy, Transparency, and Records.

SYSTEM NAME AND NUMBER:

Department of the Treasury, Treasury .007—Personnel Security System.

SECURITY CLASSIFICATION:

Unclassified.

SYSTEM LOCATION:

Department of the Treasury, 1500 Pennsylvania Avenue NW, Room 3180 Annex, Washington, DC 20220 in the Office of Security Programs (and other office locations identified below) which is responsible for making suitability, fitness, security clearance, access, and Homeland Security Presidential Directive-12 (HSPD-12) credentialing decisions. Other locations at which the system is maintained by Treasury bureaus and their associated offices are:

(1) Departmental Offices (DO):

a. 1500 Pennsylvania Avenue NW, Room 3180 Annex, Washington, DC 20220.

b. Special Inspector General for the Troubled Asset Relief Program (SIGTARP): 1801 L Street NW, Washington, DC 20036.

(2) Office of Inspector General (OIG): 320 Avery Street Parkersburg, West Virginia 26101.

(3) Treasury Inspector General for Tax Administration (TIGTA): 1401 H Street NW, Suite 469, Washington, DC 20005.

(4) Alcohol and Tobacco Tax and Trade Bureau (TTB): 1310 G Street NW, Washington, DC 20220.

(5) Office of the Comptroller of the Currency (OCC): 400 7th Street SW, Washington, DC 20219.

(6) Bureau of Engraving and Printing (BEP): 14th & C Streets SW, Washington, DC 20228.

(7) Bureau of the Fiscal Service (BFS): Security Operations Division, Personnel Security Branch, 3700 East West Highway, Hyattsville, Maryland and BFS at 320 Avery Street, Parkersburg, West Virginia 26101.

(8) United States Mint (MINT): 801 9th Street NW, Washington, DC 20220.

(9) Financial Crimes Enforcement Network (FinCEN), Vienna, Virginia 22183-0039.

(10) Internal Revenue Service (IRS), 1111 Constitution Avenue NW, Washington, DC 20224.

SYSTEM MANAGER(S):

Department of the Treasury Official prescribing policies and practices: Director, Office of Security Programs, 1500 Pennsylvania Avenue NW, Room 3180 Annex, Washington, DC 20220.

The system managers for the Treasury bureau components are:

(1) Departmental Offices:

a. Chief, Personnel Security, 1500 Pennsylvania Avenue NW, Room 3180 Annex, Washington, DC 20220.

b. SIGTARP: Director, Human Resources, 1801 L Street NW, Washington, DC 20036.

(2) OIG: Personnel Officer, 740 15th Street NW, Suite 510, Washington, DC 20220.

(3) TIGTA: Personnel Security Officer, 1401 H Street NW, Suite 469, Washington, DC 20005.

(4) TTB: Alcohol and Tobacco Tax and Trade Bureau: Director of Security and Emergency Preparedness 1310 G Street NW, Washington, DC 20220.

(5) BFS: Director, Division of Security and Emergency Preparedness, Director, Division of Human Resources Operations Division, Avery Street Building, 320 Avery Street, Parkersburg, West Virginia 26101 and Director, Administrative Programs Division, 3700 East West Highway, Hyattsville, Maryland 20782.

(6) OCC: Director, Administrative Services Division, 400 7th Street SW, Washington, DC 20219.

(7) BEP: Chief, Office of Security, 14th & C Streets NW, Washington, DC 20228.

(8) Mint: Associate Director for Protection, 801 9th Street NW, 8th Floor, Washington, DC 20220.

(9) FinCEN: Director, Vienna, Virginia 22183-0039.

(10) IRS: Director, Personnel Security, 1111 Constitution Avenue NW, Washington, DC 20224.

AUTHORITY FOR MAINTENANCE OF THE SYSTEM:

Executive Order 12968, as amended, Executive Order 13467, Executive Order 13488, and Homeland Security Presidential Directive 12 (HSPD-12).

PURPOSE(S) OF THE SYSTEM:

(1) The records in this system are used to provide investigative and related administrative, adjudicative, and other information necessary to determine whether an individual is suitable or fit for Government employment; eligible for logical and physical access to Treasury controlled facilities and information systems; eligible to hold sensitive positions (including but not limited to eligibility for access to classified information); fit to perform work for or on behalf of the U.S. Government as a contractor; qualified to perform contractor services for the U.S. Government; or loyal to the United States; and

(2) while maintaining compliance with applicable legal, regulatory and policy authorities.

CATEGORIES OF INDIVIDUALS COVERED BY THE SYSTEM:

(1) Current and former government employees, applicants, consultants, experts, contractor personnel occupying sensitive positions in the Department; (2) current and former U.S. Executive Directors and Alternates employed at International Financial Institutions; (3) personnel who are appealing a denial or a revocation of a Treasury-issued security clearance; (4) employees and contractor personnel who have applied for the HSPD-12 Personal Identity Verification (PIV) Card; (5) individuals who are not Treasury employees, but who are or were involved in Treasury Department programs under a co-operative assignment or under a similar agreement; and (6) State, Local, Tribal and Private sector partners identified by Treasury sponsors for eligibility to access classified information in support of homeland defense initiatives.

CATEGORIES OF RECORDS IN THE SYSTEM:

Applicable records containing the following information from one or more of the categories within background investigations relating to personnel investigations conducted by the Office of Personnel Management, select Treasury bureaus (IRS, Mint and BEP) and other Federal agencies and departments on a pre-placement and post-placement basis to make suitability, fitness, and HSPD-12 PIV determinations and for granting security clearances. This system maintains information collected as part of the investigative vetting process. This information may include the individual's personally identifiable information; residential, educational, employment, and mental health history; financial details, and criminal and disciplinary histories; to include:

(1) An individual's name, former names and aliases; date and place of birth; social security number (SSN); height; weight; hair and eye color; gender; mother's maiden name; current and former home addresses to include names and addresses of neighbors and references, phone numbers, and email addresses; employment history to include names of supervisors and colleagues; military record information; selective service registration record; education and degrees earned; names of associates and references with their contact information; citizenship; passport information; criminal history; civil court actions; prior security clearance and investigative information; mental health history; records related to drug and/or alcohol use; financial record information; information from the IRS pertaining to income tax returns; credit reports; the name, date and place of birth, SSN, and citizenship information for spouse or cohabitant; the name and marriage information for current and former spouse(s); the citizenship, name, date and place of birth, and address for relatives; information on foreign contacts and activities; association records; information on loyalty to the United States; publicly available social media information; and other agency reports furnished to Treasury in connection with the background investigation process, and other information developed from the above; (2) position sensitivity; status of current adjudicative action; status of security clearance eligibility and/or access, suitability, fitness, or HSPD-12 PIV determinations; and investigative records related to initial vetting, reinvestigation, continuous evaluation, and/or continuous vetting; (3) summaries of personal and third party interviews conducted during the course of the background investigation; (4) previously used card index records comprised of Notice of Personnel Security Investigation (OS F 67-32.2); (5) signed Classified Information Non-disclosure Agreement (SF 311), and related supplemental documents for those persons issued a security clearance; (6) completed Security Orientation Acknowledgment (TD F 15-05.01) for persons having received initial security training on safeguarding classified information; (7) an automated data system reflecting identification data on incumbents and former employees, disclosure and authorization forms, and record of investigations, level and date of security clearance, if any, as well as status of investigations; (8) records pertaining to suspensions or an appeal of a denial or a revocation of a Treasury-issued security clearance; (9) records pertaining to the personal identification verification process mandated by HSPD-12 and the issuance, denial or revocation of a PIV card; and (10) records of personnel background investigations conducted by other Federal agencies.

RECORD SOURCE CATEGORIES:

Records are obtained from individual employees, applicants, detailees, consultants, experts and contractors (including the results of in-person interviews) whose files are on record as authorized by those concerned; investigative reports from federal investigative agencies; criminal or civil investigations; continuous evaluation records; police and credit record checks; personnel records; educational records and instructors; current and former employers; coworkers, neighbors, family members, acquaintances; and authorized security representatives.

ROUTINE USES OF RECORDS MAINTAINED IN THE SYSTEM, INCLUDING CATEGORIES OF USERS AND PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows:

(1) Designated officers and employees of agencies, offices, and other establishments in the executive, legislative and judicial branches of the Federal government, when such agency, office, or establishment conducts an investigation of the individual for purposes of granting a security clearance, or for the purpose of making a determination of qualifications, suitability, fitness, or issuance of an HSPD-12 PIV card for physical and/or logical access to facilities/IT systems or restricted areas; to determine access to classified information and/or in connection with performance of a service to the Federal government under a contract or other agreement;

(2) Pursuant to the order of a court of competent jurisdiction;

(3) To the United States Department of Justice (“DOJ”), for the purpose of representing or providing legal advice to the Department in a proceeding before a court, adjudicative body, or other administrative body before which the Department is authorized to appear, when such proceeding involves:

(a) The Department or any component thereof;

(b) Any employee of the Department in his or her official capacity;

(c) Any employee of the Department in his or her individual capacity where the Department of Justice or the Department has agreed to represent the employee; or

(d) The United States, when the Department determines that litigation is likely to affect the Department or any of its components; and the use of such records by the DOJ is deemed by the DOJ or the Department to be relevant and necessary to the litigation provided that the disclosure is compatible with the purpose for which records were collected;

(4) To a Congressional office in response to a written inquiry made at the request of the individual to whom the record pertains;

(5) To another agency or to an instrumentality of any governmental jurisdiction within or under the control of the United States for a civil or criminal law enforcement activity if the activity is authorized by law, and if the head of the agency or instrumentality has made a written request to the Treasury component which maintains the record specifying the particular portion desired and the law enforcement activity for which the record is sought;

(6) The Office of Personnel Management, Merit Systems Protection Board, Equal Employment Opportunity Commission, Federal Labor Relations Authority, and the Office of Special Counsel for the purpose of properly administering Federal personnel systems or other agencies' systems in accordance with applicable laws, Executive Orders, and regulations;

(7) To the Department of Defense or other Federal agency, or other appropriate entity, in connection with providing shared services approved by the Enterprise Investment Board (EIB) of the Performance Accountability Council (PAC), to subscribing agencies for hiring or retaining an employee; classifying a position; conducting a security, suitability, fitness, or credentialing background investigation (including continuous evaluation/continuous vetting); issuing a security clearance or sensitive position eligibility; making a suitability, fitness, or credentialing decision; recording the results of any agency decision with respect to these functions; or in support of any of the purposes or functions outlined or otherwise incorporated in this system of records;

(8) To appropriate agencies, entities, and person when (1) the Department of the Treasury suspects or has confirmed that there has been a breach of the system of records; (2) the Department of the Treasury has determined that as a result of the suspected or confirmed breach there is a risk of harm to individuals, the Department of the Treasury (including its information systems, programs, and operations), the Federal Government, or national security; and (3) the disclosure made to such agencies, entities, and persons is reasonably necessary to assist in connection with the Department of the Treasury's efforts to respond to the suspected or confirmed breach or to prevent, minimize, or remedy such harm; and

(9) To another Federal agency or Federal entity, when the Department of the Treasury determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Records in this system are stored electronically or on paper in secure facilities in a locked drawer behind a locked door.

POLICIES AND PRACTICES FOR RETRIEVAL OF RECORDS:

Records may be retrieved by name, social security number, date of birth, place of birth, Investigative Service Provider's investigation number, DISS adjudicative case identification number or some combination thereof.

POLICIES AND PRACTICES FOR RETENTION AND DISPOSAL OF RECORDS:

The records on government employees and contractor personnel are retained for the duration of their employment at the Treasury Department. The records on applicants not selected and separated employees are destroyed or sent to the Federal Records Center in accordance with General Records Schedule 5.6, item 181. Investigative reports are maintained in OPM Central-9 (81 FR 70191). DoD maintains post investigative files in DMDC 24 DOD (81 FR 39032).

ADMINISTRATIVE, TECHNICAL, AND PHYSICAL SAFEGUARDS:

Records in this system are safeguarded in accordance with applicable rules and policies, including all applicable Treasury automated systems security and access policies. Strict controls have been imposed to minimize the risk of compromising the information that is being stored. Access to the computer system containing the records in this system is limited to those individuals who have a need to know the information for the performance of their official duties and who have appropriate clearances.

RECORD ACCESS PROCEDURES:

See “Notification Procedures” below.

CONTESTING RECORD PROCEDURES:

See “Notification Procedures” below.

NOTIFICATION PROCEDURES:

Individuals seeking notification and access to any record contained in this system of records, or seeking to contest or amend its content, as a part of a Freedom of Information Act (FOIA) request and/or Privacy Act request (to include amendment requests, etc.) may inquire in writing in accordance with instructions directly to individual Treasury components appearing at 31 CFR part 1, subpart C, Appendices A-N for Privacy Act and at 31 CFR part 1, subpart A, Appendices A-M for FOIA.

EXEMPTIONS PROMULGATED FOR THE SYSTEM:

This system is exempt from 5 U.S.C. 552a(c)(3), (d)(1), (2), (3), and (4), (e)(1), (e)(4)(G), (H), and (I), and (f) of the Privacy Act pursuant to 5 U.S.C. 552a(k)(5). (See 31 CFR 1.36.)

HISTORY:

Notice of this system of records was last published in full in the Federal Register on November 7, 2016 (81 FR 78266) as the Department of the Treasury, Treasury .007—Personnel Security System.

[FR Doc. 2019-10632 Filed 5-21-19; 8:45 am]

BILLING CODE 4810-25-P